DEPARTMENT OF THE INTERIOR

National Park Service

Delaware Water Gap National Recreation Area Citizen Advisory Commission Meeting

AGENCY: National Park Service; Interior.

ACTION: Notice of meeting; correction.

SUMMARY: The National Park Service published a document in the Federal Register of December 3, 2002, concerning public meetings of the Delaware Water Gap National Recreation Area Citizen Advisory Commission. The dates, time and location for two of those meetings have been changed (one meeting has already been held as scheduled).

Correction

In the Federal Register of December 3, 2002, volume 67, page 71985, concerning public meetings of the Delaware Water Gap National Recreation Area Citizen Advisory Commisison, the dates, time and location of two of the meetings have been changed:

SUMMARY: This notice announces public meetings of the Delaware Water Gap National Recreation Area Citizen Advisory Commission. Notice of these meetings is required under the Federal Advisory Committee Act (Pub. L. 92-463).

Correction

Meeting Date and Time: Thursday, April 24, 2003 at 6 p.m.,

Address: Walpack Valley Environmental Education Center, Walpack, New Jersey 07881.

The agenda for this meeting will consist of Commission reports which typically include natural resources, recreation, and historic structures. The Superintendent will provide reports on park issues and items of interest brought forth by the Commission and the public. The agenda is set up to invite the public to bring issues of interest before the Commission.

Meeting Date and Time: Thursday, April 24, 2003 immediately following previous meeting,

Address: Walpack Valley Environmental Education Center, Walpack, New Jersey 07881.

The agenda for this meeting will consist of the annual Commission meeting and election of officers for 2003-2004.

SUPPLEMENTARY INFORMATION: The Delaware Water Gap National Recreation Area Citizen Advisory Commission was established by Pub. L. 100-573 to advise the Secretary of the Interior and the United States Congress on matters pertaining to the management and operation of the Delaware Water Gap National Recreation Area, as well as on other matters affecting the recreation area and its surrounding communities.

FOR FURTHER INFORMATION, CONTACT: Superintendent, Delaware Water Gap National Recreation Area, Bushkill, PA 18324, (570) 588-2418.

Dated: January 14, 2003.
William G. Laitner,
Superintendent.

[FR Doc. 03-8937 Filed 4-10-03; 8:45 am]

BILLING CODE 4310-70-P